DEPARTMENT OF THE TREASURY

Office of Foreign Assets Control

Additional Designation of One Entity Pursuant to Executive Order 13224

AGENCY: Office of Foreign Assets Control, Treasury.

ACTION: Notice.

SUMMARY: The Treasury Department's Office of Foreign Assets Control (“OFAC”) is publishing the name of one newly-designated entity whose property and interests in property are blocked pursuant to Executive Order 13224 of September 23, 2001, “Blocking Property and Prohibiting Transactions With Persons Who Commit, Threaten To Commit, or Support Terrorism.”

DATES: The designation by the Director of OFAC of the entity identified in this notice, pursuant to Executive Order 13224, is effective on Thursday, November 15, 2007.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on-demand service, tel.: 202/622-0077.

Background

On September 23, 2001, the President issued Executive Order 13224 (the “Order”) pursuant to the International Emergency Economic Powers Act, 50 U.S.C. 1701-1706, and the United Nations Participation Act of 1945, 22 U.S.C. 287c. In the Order, the President declared a national emergency to address grave acts of terrorism and threats of terrorism committed by foreign terrorists, including the September 11, 2001, terrorist attacks in New York, Pennsylvania, and at the Pentagon. The Order imposes economic sanctions on persons who have committed, pose a significant risk of committing, or support acts of terrorism. The President identified in the Annex to the Order, as amended by Executive Order 13268 of July 2, 2002, 13 individuals and 16 entities as subject to the economic sanctions. The Order was further amended by Executive Order 13284 of January 23, 2003, to reflect the creation of the Department of Homeland Security.

Section 1 of the Order blocks, with certain exceptions, all property and interests in property that are in or hereafter come within the United States or the possession or control of United States persons, of: (1) Foreign persons listed in the Annex to the Order; (2) foreign persons determined by the Secretary of State, in consultation with the Secretary of the Treasury, the Secretary of the Department of Homeland Security and the Attorney General, to have committed, or to pose a significant risk of committing, acts of terrorism that threaten the security of U.S. nationals or the national security, foreign policy, or economy of the United States; (3) persons determined by the Director of OFAC, in consultation with the Departments of State, Homeland Security and Justice, to be owned or controlled by, or to act for or on behalf of those persons listed in the Annex to the Order or those persons determined to be subject to subsection 1(b), 1(c), or 1(d)(i) of the Order; and (4) except as provided in section 5 of the Order and after such consultation, if any, with foreign authorities as the Secretary of State, in consultation with the Secretary of the Treasury, the Secretary of the Department of Homeland Security and the Attorney General, deems appropriate in the exercise of his discretion, persons determined by the Director of OFAC, in consultation with the Departments of State, Homeland Security and Justice, to assist in, sponsor, or provide financial, material, or technological support for, or financial or other services to or in support of, such acts of terrorism or those persons listed in the Annex to the Order or determined to be subject to the Order or to be otherwise associated with those persons listed in the Annex to the Order or those persons determined to be subject to subsection 1(b), 1(c), or 1(d)(i) of the Order.

On Thursday, November 15, 2007, the Director of OFAC, in consultation with the Departments of State, Homeland Security, Justice and other relevant agencies, designated, pursuant to one or more of the criteria set forth in subsections 1(b), 1(c) or 1(d) of the Order, one entity whose property and interests in property are blocked pursuant to Executive Order 13224.

The designee is as follows:

TAMILS REHABILITATION ORGANISATION (a.k.a. ORGANISATION DE REHABILITATION TAMOULE; a.k.a. ORGANISATION PRE LA REHABILITATION TAMIL; a.k.a. ORGANIZZAZIONE PER LA RIABILITAZIONE DEI TAMIL; a.k.a. ORT FRANCE; a.k.a. TAMIL REHABILITATION ORGANIZATION; a.k.a. TAMIL REHABILITERINGS ORGANISASJONEN; a.k.a. TAMILISCHE REHABILITATION ORGANISATION; a.k.a. TAMILS REHABILITATION ORGANIZATION; a.k.a. TAMILSK REHABILITERINGS ORGANISASJON; a.k.a. TRO; a.k.a. TRO DANMARK; a.k.a. TRO ITALIA; a.k.a. TRO NORGE; a.k.a. TRO SCHWEIZ; a.k.a. TSUNAMI RELIEF FUND—COLOMBO, SRI LANKA; a.k.a. WHITE PIGEON; a.k.a. WHITEPIGEON), 2390 Eglington Avenue East, Suite 203A, Toronto, Ontario M1K 2P5, Canada; 26 Rue du Departement, Paris 75018, France; Via Dante 210, Palermo 90141, Italy; Address Unknown, Belgium; Langelinie 2A, St, TV 1079, Vejile 7100, Denmark; P.O. Box 82, Herning 7400, Denmark; P.O. Box 212, Vejle 7100, Denmark; Address Unknown, Finland; Postfach 2018, Emmenbrucke 6021, Switzerland; Tribschenstri, 51, Lucerne 6005, Switzerland; 8 Gemini—CRT, Wheelers Hill 3150, Australia; Box 4254, Knox City, VIC 3152, Australia; Voelklinger Str. 8, Wuppertal 42285, Germany; Gruttolaan 45, BM landgraaf 6373, Netherlands; M.G.R. Lemmens, str-09, BM Landgraff 6373, Netherlands; Warburgstr. 15, Wupprtal 42285, Germany; P.O. Box 4742, Sofienberg, Oslo 0506, Norway; Box 44, Tumba 147 21, Sweden; 356 Barkers Road, Hawthorn, Victoria 3122, Australia; P.O. Box 10267, Dominion Road, Aukland, New Zealand; 371 Dominion Road, Mt. Eden, Aukland, New Zealand; Address Unknown, Durban, South Africa; No. 6 Jalan 6/2, Petaling Jaya 46000, Malaysia; 517 Old Town Road, Cumberland, MD 21502; 1079 Garratt Lane, London SW17 0LN, United Kingdom; 410/112 Buller Street, Buddhaloga Mawatha, Colombo 7, Sri Lanka; Kandasamy Koviladi, Kandy Road (A9 Road), Kilinochchi, Sri Lanka; 254 Jaffna Road, Kilinochchi, Sri Lanka; Ananthapuram, Kilinochchi, Sri Lanka; 410/412 Bullers Road, Colombo 7, Sri Lanka; 75/4 Barnes Place, Colombo 7, Sri Lanka; No. 9 Main Street, Mannar, Sri Lanka; No. 69 Kalikovil Road, Kurumankadu, Vavuniya, Sri Lanka; 9/1 Saradha Street, Trincomalee, Sri Lanka; Arasaditivu Kokkadicholai, Batticaloa, Sri Lanka; Ragama Road, Akkaraipattu-07, Amparai, Sri Lanka; Paranthan Road, Kaiveli Puthukkudiyiruppu, Mullaitivu, Sri Lanka; Address Unknown, Vaharai, Sri Lanka; Registration ID 50706 (Sri Lanka); alt. Registration ID 6205 (Australia); alt. Registration ID 1107434 (United Kingdom); alt. Registration ID D4025482 (United States); alt. Registration ID 802401-0962 (Sweden); Tax ID No. 52-1943868 (United States).

Dated: November 14, 2007.
Adam J. Szubin,
Director, Office of Foreign Assets Control.

[FR Doc. E7-22866 Filed 11-21-07; 8:45 am]

BILLING CODE 4811-45-P